DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than May 22, 2006.

Interested persons are invited to submit written comments regarding the subject matter of the investigations to the Director, Division of Trade Adjustment Assistance, at the address shown below, not later than May 22, 2006.

The petitions filed in this case are available for inspection at the Office of the Director, Division of Trade Adjustment Assistance, Employment and Training Administration, U.S. Department of Labor, Room C-5311, 200 Constitution Avenue, NW., Washington, DC 20210.

Signed at Washington, DC this 2nd day of May 2006.
Erica R. Cantor,
Director, Division of Trade Adjustment Assistance.

Appendix
[TAA petitions instituted between 4/24/06 and 4/28/06]
TA-W | Subject firm (petitioners) | Location | Date of institution | Date of petition
59265 | Status Leather (Wkrs) | Booneville, MS | 04/24/06 | 04/03/06
59266 | Commercial Vehicle Group (Comp) | Spring Green, WI | 04/24/06 | 04/21/06
59267 | Good Times Ent. (GT Brands), LLC (Wkrs) | Jersey City, NJ | 04/24/06 | 04/21/06
59268 | Freedom Foods (State) | North Bend, NE | 04/24/06 | 04/24/06
59269 | Gemeinhardt, LLC (Union) | Elkhart, IN | 04/24/06 | 04/24/06
59270 | GC Services (Wkrs) | El Paso, TX | 04/24/06 | 04/10/06
59271 | World Plastic Extruders (Wkrs) | Moonachie, NJ | 04/24/06 | 04/24/06
59272 | Weyco Group (UFCW) | Beaver Dam, WI | 04/25/06 | 04/24/06
59273 | Guildcraft of California (Wkrs) | Rancho Dominguez, CA | 04/25/06 | 04/24/06
59274 | Memphis Hardwood Flooring (Union) | Memphis, TN | 04/25/06 | 04/24/06
59275 | Progressive Maintenance Tech., Inc. (Wkrs) | Lee's Summit, MO | 04/25/06 | 04/11/06
59276 | Unifi, Inc. (Comp) | Mayodan, NC | 04/25/06 | 04/24/06
59277 | Thomasville Furniture Ind., Inc. (Comp) | Thomasville, NC | 04/25/06 | 04/24/06
59278 | Rexnord Corp. (Union) | Warren, PA | 04/25/06 | 04/18/06
59279 | International Waxes, Inc. (USWA) | Smethport, PA | 04/25/06 | 04/25/06
59280 | Enesco Corp. (Wkrs) | Elk Grove Village, IL | 04/26/06 | 04/08/06
59281 | Super Hanger Supply Solutions, Inc. (Comp) | Longwood, FL | 04/26/06 | 04/25/06
59282 | Lyon Workspace Products (USW) | Montgomery, IL | 04/26/06 | 04/05/06
59283 | Staktek Group, LP (Wkrs) | Austin, TX | 04/26/06 | 04/25/06
59284 | Sound Advance Systems (Co.) | Santa Ana, CA | 04/27/06 | 04/26/06
59285 | Sony Electronics, Inc. (Wkrs) | Mt. Pleasant, PA | 04/27/06 | 04/24/06
59286 | Tecumseh Power Co. (Co.) | Salem, IN | 04/27/06 | 04/26/06
59287 | SNC Manufacturing Co., Inc. (UAW) | Oshkosh, WI | 04/27/06 | 04/26/06
59288 | Gold Star Coatings (Co.) | West Branch, MI | 04/27/06 | 04/24/06
59289 | Isola Group (Co.) | Franklin, NH | 04/27/06 | 04/27/06
59290 | Apollo Colors, Inc. (Comp) | Ridgway, PA | 04/28/06 | 04/24/06
59291 | Bagley and Hotchkiss, Ltd. (State) | Santa Rosa, CA | 04/28/06 | 04/26/06
59292 | GE Consumer Industrial Lighting (Union) | Willoughby, OH | 04/28/06 | 04/27/06
59293 | Invensys Controls (Comp) | N. Manchester, IN | 04/28/06 | 04/28/06
59294 | Osram/Sylvania (Comp) | Waldoboro, ME | 04/28/06 | 04/07/06
59295 | Sony Technology Pittsburgh (Wkrs) | Mt. Pleasant, PA | 04/28/06 | 04/27/06
59296 | ASI Synertech Health Solutions (Wkrs) | Harrisburg, PA | 04/28/06 | 04/27/06
59297 | Tooling Supply NAFTA (TSUS/FL) (Comp) | Fair Lawn, NJ | 04/28/06 | 04/25/06
59298 | Honeywell (State) | Phoenix, AZ | 04/28/06 | 04/27/06
59299 | Bayer Clothing Group, Inc. (Comp) | Clearfield, PA | 04/28/06 | 04/25/06
59300 | Philips Medical Systems (Wkrs) | Highland Heights, OH | 04/28/06 | 04/28/06

[FR Doc. E6-7125 Filed 5-9-06; 8:45 am]

BILLING CODE 4510-30-P